ENVIRONMENTAL PROTECTION AGENCY

40 CFR Part 52

[DC102-2050; FRL-7953-9]

Approval and Promulgation of Air Quality Implementation Plans; District of Columbia; Update to Materials Incorporated by Reference

AGENCY: Environmental Protection Agency (EPA).

ACTION: Final rule; Notice of administrative change.

SUMMARY: EPA is updating the materials submitted by the District of Columbia that are incorporated by reference (IBR) into the State implementation plan (SIP). The regulations affected by this update have been previously submitted by the State agency and approved by EPA. This update affects the SIP materials that are available for public inspection at the National Archives and Records Administration (NARA), the Air and Radiation Docket and Information Center located at EPA Headquarters in Washington, DC, and the EPA Regional Office.

EFFECTIVE DATE: This action is effective September 6, 2005.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue NW., Room B108, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The SIP is a living document which the state can revise as necessary to address the unique air pollution problems in the State. Therefore, EPA from time to time must take action on SIP revisions containing new and/or revised regulations as being part of the SIP. On May 22, 1997 (62 FR 27968), EPA revised the procedures for incorporating by reference Federally-approved SIPs, as a result of consultations between EPA and Office of the Federal Register (OFR). The description of the revised SIP document, IBR procedures and “Identification of plan” format are discussed in further detail in the May 22, 1997 Federal Register document.

On December 7, 1998, (63 FR 67407) EPA published a document in the Federal Register beginning the new IBR procedure for the District of Columbia. On August 6, 2004 (69 FR 47773), EPA published an update to the IBR material for the District of Columbia. In this action, EPA is doing the following:

1. Announcing the second update to the material being IBR'ed.

2. Making corrections to the chart listed in § 52.470(c), as described below:

a. Chapter 1 (General), Section 199 (Definitions and Abbreviations)—Entries for Section 199 which were inadvertently removed by a December 28, 2004 rulemaking action are being restored to the table.

b. Chapter 3 (Operating Permits), Section 307, the State effective date is revised to read “4/16/04.”

c. Chapter 6 (Particulates), Section 600.1—In the “Additional explanation” column, a brief description of the revision is added.

d. Chapter 7 (Volatile Organic Compounds), Section 715—the State effective date is revised to read “4/16/04.”

e. Chapter 7, Sections 749 through 754—an entry is added to the “Additional explanation” column to reference a related correction final rulemaking action.

f. Chapter 7, Section 799—An entry for Section 799 which was inadvertently deleted by a December 23, 2004 rulemaking action is being restored.

g. Chapter 7, Section 799—The entry in the “Title/subject” column is revised to read “Definitions and Abbreviations.”

h. Chapter 7, Section 799—Language is added to the “Additional explanation” column to provide a brief explanation of the entries for this section.

i. Chapter 8 (Asbestos, Sulfur, and Nitrogen Oxides), Section 805—In the “EPA approval date” column, the Federal Register page citation is revised, and the language in the “Additional explanation” section is revised to include citations for all of the revised paragraphs.

EPA has determined that today's falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect chart entries.

Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the National Government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the District of Columbia SIP compilations had previously afforded interested parties the opportunity to file a petition for judicial review in the United States Court of Appeals for the appropriate circuit within 60 days of such rulemaking action. Thus, EPA sees no need in this action to reopen the 60-day period for filing such petitions for judicial review for these “Identification of plan” update actions for the District of Columbia.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: August 9, 2005.
Thomas Voltaggio,
Acting Regional Administrator, Region III.

40 CFR part 52 is amended as follows:

PART 52—[AMENDED]

1. The authority for citation for part 52 continues to read as follows:

Authority: 42.U.S.C. 7401 et seq.

Subpart J—District of Columbia

2. Section 52.470 is amended by revising paragraphs (b) and (c) to read as follows:

§ 52.470 Identification of plan.

* * * * *

(b) Incorporation by reference.

(1) Material listed as incorporated by reference in paragraphs (c) and (d) was approved for incorporation by reference by the Director of the Federal Register in accordance with 5 U.S.C. 552(a) and 1 CFR part 51. The material incorporated is as it exists on the date of the approval, and notice of any change in the material will be published in the Federal Register. Entries in paragraphs (c) and (d) of this section with EPA approval dates on or after August 1, 2005 will be incorporated by reference in the next update to the SIP compilation.

(2) EPA Region III certifies that the rules/regulations provided by EPA at the addresses in paragraph (b)(3) of this section are an exact duplicate of the officially promulgated State rules/regulations which have been approved as part of the State implementation plan as of August 1, 2005.

(3) Copies of the materials incorporated by reference may be inspected at the EPA Region III Office at 1650 Arch Street, Philadelphia, PA 19103; the EPA, Air and Radiation Docket and Information Center, Air Docket (6102), 1301 Constitution Avenue NW., Room B108, Washington, DC 20460; or at the National Archives and Records Administration (NARA). For information on the availability of this material at NARA, call 202-741-6030, or go to: http://www.archives.gov/federal_register/code_of_federal_regulations/ibr_locations.html.

(c) EPA-approved regulations.

EPA-Approved District of Columbia Regulations
State citation | Title/subject | State effective date | EPA approval date | Additional explanation
District of Columbia Municipal Regulations (DCMR), Title 20—Environment
Chapter 1—General
Section 100 | Purpose, Scope and Construction | 3/15/85 | 8/28/95, 60 FR 44431 |
Section 101 | Inspection | 3/15/85 | 8/28/95, 60 FR 44431 |
Section 102 | Orders for Compliance | 3/15/85 | 8/28/95, 60 FR 44431 |
Section 104 | Hearings | 3/15/85 | 8/28/95, 60 FR 44431 |
Section 105 | Penalty | 3/15/85 | 8/28/95, 60 FR 44431 |
Section 106 | Confidentiality of Reports | 3/15/85 | 8/28/95, 60 FR 44431 |
Section 107 | Control Devices or Practices | 3/15/85 | 8/28/95, 60 FR 44431 |
Section 199 | Definitions and Abbreviations | 4/29/97 | 7/31/97, 62 FR 40937 |
Section 199 | Definitions and Abbreviations | 4/29/97 | 12/7/99, 62 FR 68293 | Definitions of the terms Actual emissions, allowable emissions, begin actual construction, commence, complete, major modification, necessary preconstruction approvals or permits, net emissions increase, new source, potential to emit, shutdown, and significant.
Section 199 | Defintions and Abbreviations | 12/8/00 | 5/9/01, 66 FR 23614 | defintion of “carrier”.
Section 199 | Definitions and Abbreviations | 4/16/04 | 12/28/04, 69 FR 77647 | Revised Definition of Major Stationary Source.
Section 8-2: 702 | Definitions; definition of “stack” | 7/7/72 | 9/22/72, 37 FR 19806 |
Section 8-2: 724 | Variances | 7/7/72 | 9/22/72, 37 FR 19806 |
Chapter 2—General and Non-attainment Area Permits
Section 200 | General Permit Requirements | 4/29/97 | 7/31/97, 62 FR 40937 |
Section 201 | General Requirements for Permit Issuance | 4/29/97 | 7/31/97, 62 FR 40937 |
Section 202 | Modification, Revocation and Termination of Permits | 4/29/97 | 7/31/97, 62 FR 40937 |
Section 204 | Permit Requirements for Sources Affecting Nonattainment Areas | 4/16/04 | 12/28/04, 69 FR 77647 | Revised Paragraph 204.4.
Section 206 | Notice and Comment Prior to Permit Issuance | 4/29/97 | 7/31/97, 62 FR 40937 |
Section 299 | Definitions and Abbreviations | 4/29/97 | 7/31/97, 62 FR 40937 |
Section 8-2:720(c) | Permits to Construct or Modify; Permits to Operate | 7/7/72 | 9/22/72, 37 FR 19806 | Requirement for Operating Permit.
Chapter 3—Operating Permits
Section 307 | Enforcement for Severe Ozone Nonattainment Areas | 4/16/04 | 12/28/04, 69 FR 77639 | Provision allowing for the District to collect penalty fees from major stationary sources if the nonattainment area does not attain the ozone standard by the statutory attainment date.
Chapter 4—Ambient Monitoring, Emergency Procedures, Chemical Accident Prevention and Conformity
Section 400 | Air Pollution Reporting Index | 3/15/85 | 8/28/95, 60 FR 44431 |
Section 401 | Emergency Procedures | 3/15/85 | 8/28/95, 60 FR 44431 |
Section 403 | Determining Conformity of Federal Actions to State or Federal Implementation Plans | 11/6/98 | 6/5/03, 68 FR 33638 |
Section 499 | Definitions and Abbreviations | 3/15/85 | 8/28/95, 60 FR 44431 |
Chapter 5—Source Monitoring and Testing
Sections 500.1 through 500.3 | Records and Reports | 3/15/85 | 8/28/95, 60 FR 44431 |
Sections 500.4, 500.5 | Records and Reports | 9/30/93 | 1/26/95, 60 FR 5134 |
Section 500.6 | Records and Reports | 9/30/93 | 10/27/99, 64 FR 57777 |
Section 500.7 | Records and Reports—Emission Statements | 9/30/93 | 5/26/95, 60 FR 27944 |
Section 501 | Monitoring Devices | 3/15/85 | 8/28/95, 60 FR 44431 |
Sections 502.1 through 502.15 | Sampling, Tests and Measurements | 3/15/85 | 8/28/95, 60 FR 44431 | Exceptions: Paragraphs 5.11, 5.12 and 5.14 are not part of the SIP.
Section 502.17 | Sampling Tests, and Measurements | 9/30/93 | 10/27/99, 64 FR 57777 |
Section 502.18 | Sampling Tests, and Measurements | 12/8/00 | 5/9/01, 66 FR 23614 |
Section 599 | Definitions and Abbreviations | 9/30/93 | 10/27/99, 64 FR 57777 |
Chapter 6—Particulates
Section 600 | Fuel-Burning Particulate Emissions | 4/16/04 | 12/28/04, 69 FR 77645 | Revision to paragraph 600.1.
Section 601 | Rotary Cup Burners | 3/15/85 | 8/28/95, 60 FR 44431 |
Section 602 | Incinerators | 3/15/85 | 8/28/95, 60 FR 44431 |
Section 603 | Particulate Process Emissions | 3/15/85 | 8/28/95, 60 FR 44431 |
Section 604 | Open Burning | 3/15/85 | 8/28/95, 60 FR 44431 |
Section 605 | Control of Fugitive Dust | 3/15/85 | 8/28/95, 60 FR 44431
Section 606 | Visible Emissions | 3/15/85 | 8/28/95, 60 FR 44431 |
Section 699 | Definitions and Abbreviations | 3/15/85 | 8/28/95, 60 FR 44431 |
Chapter 7—Volatile Organic Compounds
Section 700 | Organic Solvents | 3/15/85 | 10/27/99, 64 FR 57777 |
Section 701.1 through 701.13 | Storage of Petroleum Products | 3/15/85 | 10/27/99, 64 FR 57777 |
Section 702 | Control of VOC leaks from Petroleum Refinery Equipment | 3/15/85 | 10/27/99, 64 FR 57777 |
Section 703.2, 703.3 | Terminal Vapor Recovery—Gasoline or VOCs | 3/15/85 | 10/27/99, 64 FR 57777 |
Section 703.1, 703.4 through 703.7 | Terminal Vapor Recovery—Gasoline or VOCs | 9/30/93 | 10/27/99, 64 FR 57777 |
Section 704 | Stage I—Vapor Recovery | 3/15/85 | 10/27/99, 64 FR 57777 |
Section 705.1 through 705.3 | Stage II—Gasoline Vapor Recovery | 9/30/93 | 10/27/99, 64 FR 57777 |
Section 705.4 through 705.14 | Stage II—Gasoline Vapor Recovery | 3/15/85 | 10/27/99, 64 FR 57777 |
Section 706 | Petroleum Dry Cleaners | 3/15/85 | 10/27/99, 64 FR 57777 |
Section 707 | Perchloroethylene Dry Cleaning | 3/15/85 | 10/27/99 64 FR 57777 |
Section 708 | Solvent Cleaning (Degreasing) | 3/15/85 | 10/27/99, 64 FR 57777 |
Section 709 | Asphalt Operations | 3/15/85 | 10/27/99, 64 FR 57777 |
Section 710 | Engraving and Plate Printing | 3/15/85 | 8/4/92, 57 FR 34249 |
Section 711 | Pumps and Compressors | 3/15/85 | 10/27/99, 64 FR 57777 |
Section 712 | Waste Gas Disposal from Ethylene Producing Plant | 3/15/85 | 10/27/99, 64 FR 57777 |
Section 713 | Waste Gas Disposal from Vapor Blow-down System | 3/15/85 | 10/27/99, 64 FR 57777 |
Section 715 | Reasonably Available Control Technology | 4/16/04 | 12/28/04, 69 FR 77647 | Revised paragraphs 715.2, 715.3, and 715.4(b).
Section 716 | Offset Lithography | 10/2/98 | 10/27/99, 64 FR 57777 |
Section 718 | Mobile Equipment Repair and Refinishing | 11/26/04 | 12/23/05, 69 FR 76855 |
Section 719 | Consumer Products—General Requirements | 4/16/04, 11/26/04 | 12/28/04, 69 FR 77642 |
Section 720 | Consumer Products—VOC Standards | 4/16/04, 11/28/04 | 12/28/04, 69 FR 77642 |
Section 721 | Consumer Products—Exemptions from VOC Standards | 04/16/04, 11/28/04 | 12/28/04, 69 FR 77642 |
Section 722 | Consumer Products—Registered Under FIFRA | 04/16/04, 11/28/04 | 12/28/04, 69 FR 77642 |
Section 723 | Consumer Products—Products Requiring Dilution | 04/16/04, 11/28/04 | 12/28/04, 69 FR 77642 |
Section 724 | Consumer Products—Ozone Depleting Compounds | 04/16/04, 11/28/04 | 12/28/04, 69 FR 77642 |
Section 725 | Consumer Products—Aerosol Adhesives | 4/16/04, 11/28/04 | 12/28/04, 69 FR 77642 |
Section 726 | Consumer Products—Antiperspirants or Deodorants | 4/16/04, 11/28/04 | 12/28/04, 69 FR 77642 |
Section 727 | Consumer Products—Charcoal Lighter Materials | 4/16/04, 11/28/04 | 12/28/04, 69 FR 77642 |
Section 728 | Consumer Products—Floor Wax Strippers | 4/16/04, 11/28/04 | 12/28/04, 69 FR 77642 |
Section 729 | Consumer Products—Labeling of Contents | 4/16/04, 11/28/04 | 12/28/04, 69 FR 77642 |
Section 730 | Consumer Products—Reporting Requirements | 4/16/04, 11/28/04 | 12/28/04, 69 FR 77642 |
Section 731 | Consumer Products—Test Methods | 4/16/04, 11/28/04 | 12/28/04, 69 FR 77642 |
Section 732 | Consumer Products—Alternative Control Plans | 4/16/04, 11/28/04 | 12/28/04, 69 FR 77642 |
Section 733 | Consumer Products—Innovative Products Exemption | 4/16/04, 11/28/04 | 12/28/04, 69 FR 77642 |
Section 734 | Consumer Products—Variance Requests | 4/16/04, 11/28/04 | 12/28/04, 69 FR 77642 |
Section 735 | Portable Fuel Containers and Spouts—General Requirements | 4/16/04, 11/26/04 | 12/29/04, 69 FR 77903 |
Section 736 | Portable Fuel Containers and Spouts—Performance Standards | 4/16/04, 11/26/04 | 12/29/04, 69 FR 77903 |
Section 737 | Portable Fuel Containers and Spouts—Exemptions From Performance Standards | 4/16/04 11/26/04 | 12/29/04, 69 FR 77903 |
Section 738 | Portable Fuel Containers and Spouts—Labeling Requirements | 4/16/04, 11/26/04 | 12/29/04, 69 FR 77903 |
Section 739 | Portable Fuel Containers and Spouts—Testing Procedures | 4/16/04, 11/26/04 | 12/29/04, 69 FR 77903 |
Section 740 | Portable Fuel Containers and Spouts—Innovative Product Exemption | 4/16/04, 11/26/04 | 12/29/04, 69 FR 77903 |
Section 741 | Portable Fuel Containers and Spouts—Variance | 4/16/04, 11/26/04 | 12/29/04, 69 FR 77903 |
Section 742 | Solvent Cleaning—General Requirements | 4/16/04, 11/26/04 | 12/29/04, 69 FR 77906 |
Section 743 | Solvent Cleaning—Cold Cleaning | 4/16/04, 11/26/04 | 12/29/04, 69 FR 77906 |
Section 744 | Solvent Cleaning—Batch Vapor Cleaning | 4/16/04, 11/26/04 | 12/29/04, 69 FR 77906 |
Section 745 | Solvent Cleaning—In-Line Vapor Cleaning | 4/16/04, 11/26/04 | 12/29/04, 69 FR 77906 |
Section 746 | Solvent Cleaning—Airless and Air-Tight Cleaning | 4/16/04, 11/26/04 | 12/29/04, 69 FR 77906 |
Section 747 | Solvent Cleaning—Alternative Compliance | 4/16/04, 11/26/04 | 12/29/04, 69 FR 77906 |
Section 748 | Solvent Cleaning—Recordkeeping and Monitoring | 4/16/04, 11/26/04 | 12/29/04, 69 FR 77906 |
Section 749 | Architectural and Industrial Maintenance Coating—General Requirements | 4/16/04, 11/26/04 | 5/12/05, 70 FR 24959 | Correction FRN published 5/19/05 (70 FR 28988).
Section 750 | Architectural and Industrial Maintenance Coating—Standards | 4/16/04, 11/26/04 | 5/12/05, 70 FR 24959 |
Section 751 | Architectural and Industrial Maintenance Coating—Exemptions | 4/16/04, 11/26/04 | 5/12/05, 70 FR 24959 |
Section 753 | Architectural and Industrial Maintenance Coating—Reporting Requirements | 4/16/04, 11/26/04 | 5/12/05, 70 FR 24959 |
Section 754 | Architectural and Industrial Maintenance Coating—Testing Requirements | 4/16/04, 11/26/04 | 5/12/05, 70 FR 24959 |
Section 799 | Definitions and Abbreviations | 09/30/93 | 10/27/99, 64 FR 57777 |
|  | 11/26/04 | 12/23/04, 69 FR 76855 | Definitions related to Section 718
|  | 4/16/04 11/26/04 | 12/28/04, 69 FR 77642 | Definitions related to Sections 719 through 734
|  | 4/16/04, 11/26/04 | 12/29/04, 69 FR 77903 | Definitions related to Sections 735 through 741
|  | 4/16/04, 11/26/04 | 12/29/04, 69 FR 77906 | Definitions related to Sections 742 through 748
|  | 4/16/04, 11/26/04 | 5/12/05, 70 FR 24959 | Definitions related to Sections 748 through 754. Correction FRN published 5/19/05 (70 FR) 28988.
Chapter 8—Asbestos, Sulfur and Nitrogen Oxides
Section 801 | Sulfur Content of Fuel Oils | 3/15/85 | 8/28/95, 60 FR 44431 |
Section 802 | Sulfur Content of Coal | 3/15/85 | 8/28/95, 60 FR 44431 |
Section 803 | Sulfur Process Emissions | 3/15/85 | 8/28/95, 60 FR 44431 |
Section 804 | Nitrogen Oxide Emissions | 3/15/85 | 8/28/95, 60 FR 44431 |
Section 805 | Reasonably Available Control Technology for Major Stationary Sources of Oxides of Nitrogen | 4/16/04 | 12/28/04, 69 FR 77645, 69 FR 77647 | Revised paragraphs 805.1(a), 805.1(a)(3) and (4), 805.1(b) and (c), 805.5(b) and (c), 805.6, and 805.7.
Section 899 | Definitions and Abbreviations | 3/15/85 | 8/28/95, 60 FR 44431 |
Chapter 9—Motor Vehicle Pollutants, Lead, Odors, and Nuisance Pollutants
Section 904 | Oxygenated Fuels | 7/25/97 | 5/9/01, 66 FR 23614 | Addition of subsection 904.3 to make the oxygenated gasoline program a CO continency measure.
Section 915 | National Low Emissions Vehicle Program | 2/11/00 | 7/20/00, 65 FR 44981 |
Section 999 | Definitions and Abbreviations | 2/11/00 | 7/20/00, 69 FR 44981 |
Chapter 10—Nitrogen Oxides Emissions Budget Program
Section 1000 | Applicability | 12/8/00 | 12/22/00, 65 FR 80783 |
Section 1001 | General Provisions | 12/8/00 | 12/22/00, 65 FR 80783 |
Section 1002 | Allowance Allocation | 12/8/00 | 12/22/00, 65 FR 80783 |
Section 1003 | Permits | 12/8/00 | 12/22/00, 65 FR 80783 |
Section 1004 | Allowance Transfer and Use | 12/8/00 | 12/22/00, 65 FR 80783 |
Section 1005 | Allowance Banking | 12/8/00 | 12/22/00, 65 FR 80783 |
Section 1006 | NOX Allowance Tracking system | 12/8/00 | 12/22/00, 65 FR 80783 |
Section 1007 | Emission Monitoring | 12/8/00 | 12/22/00, 65 FR 80783 |
Section 1008 | Record Keeping | 12/8/00 | 12/22/00, 65 FR 80783 |
Section 1009 | Reporting | 12/8/00 | 12/22/00, 65 FR 80783 |
Section 1010 | End-of-Season Reconciliation | 12/8/00 | 12/22/00, 65 FR 80783 |
Section 1011 | Compliance Certification | 12/8/00 | 12/22/00, 65 FR 80783 |
Section 1012 | Penalties | 12/8/00 | 12/22/00, 65 FR 80783 |
Section 1013 | Program Audit | 12/8/00 | 12/22/00, 65 FR 80783 |
Section 1014 | NOX Budget Trading Program for State Implementation Plans | 5/1/01 | 11/1/01, 66 FR 55099 |
Section 1099 | Definitions and Abbreviations | 12/8/00 | 12/22/00, 65 FR 80783 |
Appendices
Appendix 1 | Emission Limits for Nitrogen Oxide | 3/15/85 | 8/28/95, 60 FR 44431 |
Appendix 2 | Table of Allowable Particulate Emissions from Process Sources | 3/15/85 | 8/28/95, 60 FR 44431 |
Appendix 3 | Graphic Arts Sources | 3/15/85 | 8/28/95, 60 FR 44431 |
Appendix 5 | Test Methods for Sources of Volatile Organic Compounds | 09/30/93 | 10/27/99, 64 FR 57777 |
District of Columbia Municipal Regulations (DCMR), Title 18—Vehicles and Traffic
Chapter 4—Motor Vehicle Title and Registration
Section 411 | Registration of Motor Vehicles: General Provisions | 10/10/86 | 6/11/99, 64 FR 31498 |
Section 412 | Refusal of Registration | 10/17/97 | 6/11/99, 64 FR 31498 |
Section 413 | Application for Registration | 9/16/83 | 6/11/99, 64 FR 31498 |
Section 429 | Enforcement of Registration and Reciprocity Requirements | 3/4/83 | 6/11/99, 64 FR 31498 |
Chapter 6—Inspection of Motor Vehicles
Section 600 | General Provisions | 4/23/82 | 6/11/99, 64 FR 31498 |
Section 602 | Inspection Stickers | 3/15/85 | 6/11/99, 64 FR 31498 |
Section 603 | Vehicle Inspection: Approved Vehicles | 6/29/74; Recodified 4/1/81 | 6/11/99, 64 FR 31498 |
Section 604 | Vehicle Inspection: Rejected Vehicles | 11/23/84 | 4/10/86, 51 FR 12322 |
Section 606 | Vehicle Inspecton: Condemned Vehicles | 6/29/74; Recodified 4/1/81 | 6/11/99, 64 FR 31498 |
Section 607 | Placement of Inspection Stickers on Vehicles | 4/7/77; Recodified 4/1/81 | 6/11/99, 64 FR 31498 |
Section 608 | Lost, Mutilated or Detached Inspection Stickers | 6/30/72; Recodified 4/1/81 | 6/11/99, 64 FR 31498 |
Section 609 | Inspection of Non-Registered Motor Vehicles | 6/30/72; Recodified 4/1/81 | 6/11/99, 64 FR 31498 |
Section 617 | Inspector Certification | 7/22/94 | 6/11/99, 64 FR 31498 |
Section 618 | Automotive Emissions Repair Technician | 7/22/94 | 6/11/99, 64 FR 31498 |
Section 619 | Vehicle Emission Recall Compliance | 10/17/97 | 6/11/99, 64 FR 31498 |
Chapter 7—Motor Vehicle Equipment
Section 701 | Historic Motor Vehicles | 2/25/78; Recodified 4/1/81 | 6/11/99, 64 FR 31498 |
Section 750 | Exhaust Emission Systems | 4/26/77; Recodified 4/1/81 | 6/11/99, 64 FR 31498 |
Section 751 | Compliance with Exhaust Emission Standards | 7/22/94 | 6/11/99, 64 FR 31498 |
Section 752 | Maximum Allowable Levels of Exhaust Components | 10/17/97 | 6/11/99, 64 FR 31498 |
Section 753 | Inspection of Exhaust Emission Systems | 5/23/83 | 4/10/86, 51 FR 12322 |
Section 754 | Federal Transient Emissions Test: Testing Procedures | 7/22/94 | 6/11/99, 64 FR 31498 |
Section 755 | Federal Transient Emissions Test: Equipment | 7/22/94 | 6/11/99, 64 FR 31498 |
Section 756 | Federal Transient Emissions Test: Quality Assurance Procedures | 7/22/94 | 6/11/99, 64 FR 31498 |
Chapter 11—Motor Vehicle Offenses and Penalties
Section 1101 | Offenses Related to Title, Registration, and Identification Tags | 6/30/72; Recodified 4/1/81 | 6/11/99, 64 FR 31498 |
Section 1103 | Offenses Related to Inspection Stickers | 6/30/72; Recodified 4/1/81 | 6/11/99, 64 FR 31498 |
Section 1104 | False Statements, Alterations, Forgery, and Dishonored Checks | 11/29/91 | 6/11/99, 64 FR 31498 |
Section 1110 | Penalties for Violations | 11/29/91 | 6/11/99, 64 FR 31498 |
Chapter 26—Civil Fines for Moving and Non-Moving Violations
Section 2600.1 | Infraction: Inspection, Registration Certificate, Tags | 8/31/90 | 6/11/99, 64 FR 31498 |
Chapter 99—Definitions
Section 9901 | Definitions | 10/17/97 | 6/11/99, 64 FR 31498 | Definition of “Emission Recall Notice.”

* * * * *

[FR Doc. 05-17538 Filed 9-2-05; 8:45 am]

BILLING CODE 6560-50-P